ENVIRONMENTAL PROTECTION AGENCY

[FRL-7018-8]

Science Advisory Board; Notification of a Public Advisory Committee

SUMMARY: Pursuant to the Federal Advisory Committee Act, Public Law 92-463, notice is hereby given that the Arsenic Benefits Review Panel of the EPA Science Advisory Board (SAB) will conduct a public teleconference meeting Tuesday August 14, 2001 from 10 a.m.-12 noon Eastern Time.

The conference call meeting will be coordinated through a conference call connection in room 6013 Ariel Rios North (6th Floor), U.S. Environmental Protection Agency, 1200 Pennsylvania Avenue N.W., Washington, DC. The public is strongly encouraged to attend the meeting through a telephonic link, but may attend physically if arrangements are made in advance with the SAB staff. In both cases, arrangements should be made with the SAB staff by noon the Wednesday before the meeting. Staff may not be able to accommodate the presence of people who appear in person without advance notice. Additional instructions about how to participate in the conference call can be obtained by calling Ms. Rhonda Fortson, Management Assistant, at (202) 564-4563, and via e-mail at: fortson.rhonda@epa.gov.

Purpose of the Meetings: The Subcommittee is preparing a report on the Arsenic Benefits assessment as announced in the Federal Register Notice on July 2, 2001, 66 FR 34924-34928. The purpose of the call is to allow the Subcommittee to complete its work on this issue.

Availability of the written materials in advance of the conference call meetings: The draft report will become available to the public shortly before the meeting and it will be made available to the public on request by Email before the meeting. For email copies, please contact Mr. Thomas Miller, Designated Federal Officer, at miller.tom@epa.gov.

For Further Information—Any member of the public wishing further information concerning the conference call meeting or wishing to submit brief oral comments must contact Mr. Thomas Miller, Designated Federal Officer, Science Advisory Board (1400A), U.S. Environmental Protection Agency, Ariel Rios Building, 1200 Pennsylvania Avenue, NW, Washington, DC 20460; telephone (202) 564-4558; FAX (202) 501-0582; or via e-mail at miller.tom@epa.gov. Requests for oral comments must be in writing (e-mail, fax or mail) and received by Mr. Miller no later than noon Eastern Time one week prior to the meeting.

Providing Oral or Written Comments at SAB Meetings

It is the policy of the Science Advisory Board to accept written public comments of any length, and to accommodate oral public comments whenever possible. The Science Advisory Board expects that public statements presented at its meetings will not be repetitive of previously submitted oral or written statements. Oral Comments: For teleconference meetings, opportunities for oral comment will usually be limited to no more than three minutes per speaker and no more than fifteen minutes total. Deadlines for getting on the public speaker list for a meeting are given above. Speakers should both e-mail their comments to the DFO in MSWord and WordPerfect formats (suitable for IBM-PC/Windows 95/98) and provide 5 paper copies of their comments and presentation slides for distribution to the reviewers and public at the meeting. Written Comments: Although the SAB accepts written comments until the date of the meeting (unless otherwise stated), because this is a conference call meeting, any comments to be mailed to the Subcommittee in advance of the meeting should be received in the SAB Staff Office by noon at least a week before the meeting. E-mailed comments will be accepted until the day before the meeting, although earlier submission is encouraged; these should be sent in both MSWord and WordPerfect comments (suitable for IBM-PC/Windows 95/98).

Meeting Access—Individuals requiring special accommodation at this meeting, including wheelchair access to the conference room, should contact Mr. Miller at least five business days prior to the meeting so that appropriate arrangements can be made.

Dated: July 23, 2001.
Donald G. Barnes,
Staff Director, Science Advisory Board.

[FR Doc. 01-18822 Filed 7-26-01; 8:45 am]

BILLING CODE 6560-50-P